DEPARTMENT OF DEFENSE

Department of the Army; Corps of Engineers

Notice of Intent To Prepare a Tiered Environmental Impact Statement (TEIS) for Long-Term Sediment Management of the Federal Navigation Channel at or Near the Confluence of the Lower Snake and Clearwater Rivers in Asotin, Whitman, and Garfield Counties, State of Washington, and Nez Perce County, State of Idaho

AGENCY: U.S. Army Corps of Engineers, Department of the Army, DOD.

ACTION: Notice of Intent.

SUMMARY: The U.S. Army Corps of Engineers, Walla Walla District (USACE), intends to prepare a Tiered Environmental Impact Statement (TEIS), in compliance with the National Environmental Policy Act (NEPA), for long-term sediment management of the federal navigation channel at or near the confluence of the lower Snake and Clearwater Rivers (Confluence), in support of the commercial navigation project purpose within the Lower Snake River Projects (LSRP). The TEIS would be tiered from, and prepared in accordance with, the 2014 Lower Snake River Programmatic Sediment Management Plan, Final Environmental Impact Statement (PSMP FEIS). Per the PSMP, the triggers for development of a long-term solution have been met. TEIS alternatives will be formulated based on the PSMP's eight (8) measures applicable to Future Forecast Need Actions for Navigation and will be analyzed to determine the most cost-effective, technically acceptable, and environmentally acceptable action(s) to manage the sediment depositing at the Confluence.

DATES: This Federal Register notice initiates the formal TEIS development process.

USACE invites federal and state agencies, Native American Tribes, and local governments to submit any relevant scoping comments by July 8, 2024, that are relevant to the long-term sediment management at the Confluence for Navigation, which may include information, analysis, and ideas regarding formulation of the eight (8) measures to create the reasonable range of alternatives to be analyzed listed in the “Supplementary Information” section below. Comments not relevant to these criteria will not be considered.

USACE expects to publish a notice of availability (NOA) and request public comments on the draft TEIS in August 2025 and the final TEIS to be available to the public in February 2026. A Record of Decision (ROD) will be completed no sooner than 30 days after the final TEIS is released, in accordance with 40 CFR 1506.11.

ADDRESSES: Requests to be placed on the TEIS mailing list, requests for information, and written comments should be submitted either electronically or in hardcopy. Electronic submittals may be provided using “Navigation Channel Maintenance TEIS” in the address line at https://www.nww.usace.army.mil/EnvironmentalComplianceComment/ or via email to NEPANWW@usace.army.mil. Hardcopy submittals may be sent to Walla Walla District, U.S. Army Corps of Engineers, CENWW-PPL-C, Navigation Channel Maintenance TEIS, 201 North Third Avenue, Walla Walla, WA 99362-1876.

All comments and materials received, including names and addresses, would become part of the administrative record, and may be released to the public. Interested parties should not submit confidential business or otherwise sensitive or protected information.

FOR FURTHER INFORMATION CONTACT: Questions about the project and TEIS can be answered by Ms. Kathryn Wenger, Project Manager, Walla Walla District, Corps of Engineers, CENWW-PPL-P, 201 North Third Avenue, Walla Walla, WA 99362-1876, phone (509) 527-7294; or Ms. Michele Palmer, NEPA Coordinator, Walla Walla District, Corps of Engineers, CENWW-PPL-C, 201 North Third Avenue, Walla Walla, WA 99362-1876, phone (509) 975-9659; or via email to NEPANWW@usace.army.mil and inserting “Navigation Channel Maintenance TEIS” in the subject line.

SUPPLEMENTARY INFORMATION: The lower Snake River navigation channel passes four dams and ends near Lewiston, Idaho. USACE operates and maintains the navigation system on the lower Snake and Clearwater Rivers, up to the Port of Lewiston on the Clearwater River in Idaho. In 2014, the PSMP FEIS (https://www.nww.usace.army.mil/missions/projects/programmatic-sediment-management-plan/) analyzed broad programs for managing sediments in the LSRP. A 2014 record of decision (ROD) selected the Comprehensive (Full System and Sediment Management Measures) Alternative that provides a suite of all potentially available dredging, system management, and structural sediment management measures for use to address sediments that interfere with the existing authorized project purposes of the LSRP. Due to the broad nature of the PSMP FEIS analysis, it was expected that any Future Forecast Need Actions for Navigation triggered by certain criteria would require project-specific environmental reviews, including preparation of appropriate NEPA documents “tiered off” from the programmatic PSMP FEIS.

While there are recurring sediment deposition problems at other locations in the lower Snake River, sediment deposition at the Confluence has satisfied the PSMP's definition of a Future Forecast Need Actions for Navigation (i.e., occurring more frequently than once every five (5) years), which warrants the initiation of a tiered NEPA analysis of a long-term (future forecast action) sediment management solution/plan at this location. USACE intends to use a 50-year management period for evaluation of long-term sediment management options at the Confluence.

Public scoping was accomplished previously as part of the 2014 PSMP FEIS. The selected alternative narrowed the reasonable measures for consideration in subsequent site-specific projects to eight (8), which are listed below and further detailed in the PSMP FEIS.

Prior to publication of this Notice of Intent, USACE provided letters to federal and state agencies, Native American Tribes, and local governments inviting their participation in a minimum of one and up to two scoping discussion(s) to be held in late spring 2024 regarding an overview of the tiered NEPA process and to solicit information pertaining to the eight (8) site-specific sediment management measures under consideration in the TEIS.

The following (8) sediment management measures were selected in the 2014 PSMP ROD for potential future use in problem sediment areas affecting the navigation project purpose:

a. Dredging

b. Disposal

c. Bendway weirs

d. Dikes/Dike fields

e. Sediment traps

f. Reservoir drawdown to flush sediment

g. Reconfigure affected (federal) facilities

h. Relocate affected (federal) facilities

Alternatives formulated from the eight (8) navigation-specific measures identified above, must (either alone or in combination) provide a complete long-term sediment management solution/plan for the federal channel at the Confluence consistent with the framework of the PSMP FEIS. Also, alternatives considered must not:

• Increase the need for removing problem sediment (navigation or flow conveyance).

• Decrease flow conveyance at or near the Confluence during flood/high water events.

• Eliminate or unreasonably affect other project purposes (e.g., recreation).

The TEIS will analyze a full range of reasonable alternatives formulated from these eight (8) measures. Analyses will identify the reasonably foreseeable direct, indirect and cumulative effects to resources that may be affected by the alternatives including aquatic and terrestrial resources; recreation; cultural resources; socioeconomics and environmental justice; water quality and sediment quality; hydrology and sediment; hazardous, toxic, and radioactive waste; air quality and greenhouse gas emissions; noise; and aesthetics.

Anticipated permits and authorizations will depend on the specific alternative selected. Applicable federal laws include the Endangered Species Act, National Historic Preservation Act, Clean Water Act, and Rivers and Harbors Act. USACE will consult with the U.S. Fish and Wildlife Service and the National Marine Fisheries Service to ensure that the selected alternative complies with the Endangered Species Act. USACE will also consult with the State Historic Preservation Officer and Native American Tribes to ensure compliance with the National Historic Preservation Act. USACE will coordinate with the Washington State Department of Ecology and the Idaho Department of Environmental Quality to meet the compliance requirements associated with section 401 of the Clean Water Act.

Jeffrey D. Hall,
Colonel, Corps of Engineers, Deputy Division Commander.

[FR Doc. 2024-12362 Filed 6-5-24; 8:45 am]

BILLING CODE 3720-58-P